DEPARTMENT OF TRANSPORTATION

National Highway Traffic Safety Administration

[U.S. DOT Docket No. NHTSA-2014-0091]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before January 5, 2015.

ADDRESSES: You may submit comments identified by DOT Docket ID Number NHTSA-2014-0091 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Diane Wigle, Division Chief, Impaired Driving Division (NTI-111), Office of Impaired Driving and Occupant Protection, National Highway Traffic Safety Administration, 1200 New Jersey Avenue SE., W44-301, Washington, DC 20590. Ms. Wigle's phone number is 202-366-2695 and her email address is diane.wigle@dot.gov

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title—Special Study on 18-24 Year Old Drivers Involved in Alcohol-Related Motor Vehicle Crashes

Type of Request—New information collection request

OMB Clearance Number—None.

Form Number—This collection of information uses no standard form

Requested Expiration Date of Approval—3 years from date of approval.

Summary of the Collection of Information—NHTSA has been particularly concerned with 18- to-24-year-old drivers' propensity for high-risk driving behaviors and overrepresentation in impaired driving crashes. While data collection efforts exist to identify basic demographics and some details of crash involvement, there is insufficient information to define the characteristics, circumstances, and patterns of 18-to-24-year-old drivers involved in alcohol-related motor vehicle crashes. NHTSA needs this information to design programs that are most likely to affect this age group. NHTSA plans to collect and analyze information on: (1) Environmental or behavioral conditions that may have played a role in the cause of the crash, (2) whether there is a correlation between trip purpose, type, frequency, departure, destination, or familiarity of location, (3) determine, other than age, if there are demographic commonalities, (4) determine methods of message delivery to be most highly accepted among this group.

Description of the Need for the Information and Proposed Use of the Information—NHTSA was established by the Highway Safety Act of 1970 (23 U.S.C. 101) to carry out the Congressional mandate to reduce the mounting number of deaths, injuries, and economic losses resulting from motor vehicle crashes on the Nation's highways. As part of this statutory mandate, NHTSA is authorized to conduct research as a foundation for the development of motor vehicle safety standards and traffic safety programs.

Every year, alcohol-impaired driving fatalities account for more than 30 percent of the total motor vehicle traffic fatalities in the United States. In 2012, 10,322 people died in alcohol-impaired-driving crashes. Yearly data from the National Center for Statistics and Analysis (NCSA) consistently show that nearly 30 percent of drivers age 18-24 involved in fatal crashes are alcohol impaired (BAC .08+). In addition, a significant amount of research has indicated that heavy and binge drinking, as well as signs of alcohol dependence and abuse, is high among this age group.

In support of its mission, NHTSA proposes to gather information on drivers age 18-24 involved in alcohol-related crashes and the circumstances of these crashes. A sample of non-alcohol-related crashes involving drivers age 18-24 will also be collected as a comparison group. NHTSA is requesting approval to gather information through the National Center for Statistics and Analysis (NCSA) new record-based data collection system to be launched in January 2016, which will replace the National Automotive Sampling System General Estimates System (NASS GES), and is called the Crash Report Sampling System (CRSS). NHTSA would like to gather additional information that isn't currently being collected. NHTSA did not identify any national databases with detailed information on impaired drivers age 18-24 and specifically the characteristics, circumstances, and patterns of being involved in alcohol-related crashes.

NHTSA is seeking approval to collect data from surviving drivers, who were age 18-24 years old at the time of the crash, on driver demographics, driving behavior, contributing crash factors, and other circumstances. If the driver is unavailable, NHTSA will collect data from surviving passengers of the vehicle driven by the 18-24 year old. NHTSA, other federal agencies such as the National Institute for Alcohol Abuse and Alcoholism (NIAAA), state and local governments, safety research organizations, and universities will use the data to design, develop, or determine which countermeasures are most likely to reduce impaired driving among 18 to 24 year olds. The purpose of this data collection is to provide critical information needed by NHTSA to design effective countermeasures that meet the Agency's mandate to improve highway traffic safety.

Description of the Likely Respondents (Including Estimated Number, and Proposed Frequency of Response to the Collection of Information)—The drivers and passengers will be identified through police reported crashes of which there are over 5 million every year. From the identified crashes involving 18-24 year old drivers, a random sample of reported crashes will be selected and weighted for a geographic representation of the nation. Since the data collection effort is intended to gather information on drivers involved in alcohol-related crashes and the circumstances of these crashes, a balanced representation of non-alcohol and alcohol-related crashes are required to make any meaningful findings. According to the General Estimates System (GES) 2012 file, 1,026 of 18,566 total drivers ages 18 to 24 were in alcohol-related crashes. To show comparisons and identify patterns between drivers involved and not involved in alcohol-related crashes at significant confidence levels and considering a response rate at 10%, investigators will need to make approximately 4,100 calls for an estimated 410 possible completed interviews. NHTSA proposes to make 6,000 contacts to be able to interview approximately 600 participants in 36 months. Participants are the surviving drivers and passengers who have detailed knowledge of the crash and the driver involved. Data will be collected by staff contracted to NHTSA under the CRSS program. Special investigators will use telephone and in-person interviews to gather information. Investigators may also make contact by sending a questionnaire by mail.

Estimate of the Total Annual Reporting and Record Keeping Burden Resulting from the Collection of Information—NHTSA estimates 30 minutes for each interview for an estimated an annual burden of 100 hours and a total burden of 300 hours over a three year period. Based on median per capita income, the maximum total input cost, if all respondents were interviewed on the job, is estimated as follows: $22.01 per hour × 100 interviewing hours = $2,201 per year and $6,603 total over a three year period. There are no record keeping or reporting costs to respondents. All responses are provided spontaneously. Each respondent only participates once in the data collection. Thus there is no preparation of data required or expected of respondents. Respondents do not incur: (a) Capital and startup costs, or (b) operation, maintenance, and purchase costs for interviewing

Authority: 44 U.S.C. 3506(c)(2)(A)

Dated: October 31, 2014.
Jeff Michael,
Associate Administrator, Research and Program Development.

[FR Doc. 2014-26336 Filed 11-4-14; 8:45 am]

BILLING CODE 4910-59-P